DEPARTMENT OF THE TREASURY

Submission for OMB Review; Comment Request

February 17, 2010.

The Department of Treasury will submit the following public information collection requirements to OMB for review and clearance under the Paperwork Reduction Act of 1995, Public Law 104-13 on or after the date of publication of this notice. A copy of this submission may be obtained by calling the Treasury Department Office Clearance Officers listed. Comments regarding these information collections should be addressed to the OMB reviewer listed and to the Treasury PRA Clearance Officer, Department of the Treasury, 1750 Pennsylvania Avenue, NW., Suite 11010, Washington, DC 20220.

DATES: Written comments should be received on or before March 25, 2010 to be assured of consideration.

Domestic Finance International Portfolio Investment Data System

OMB Number: 1505-0010.

Type of Review: Revision of a currently approved collection.

Title: Monthly Consolidated Foreign Currency Report of Major Market Participants.

Form: FC-2.

Description: Collection of information on Form FC-2 is required by law. Form FC-2 is designed to collect timely information on foreign exchange contracts purchased and sold; foreign exchange futures purchased and sold; foreign currency options and net delta equivalent value; foreign currency denominated assets and liabilities; net reported dealing positions.

Respondents: Businesses or other for-profits.

Estimated Total Reporting Burden: 950 hours.

OMB Number: 1505-0012.

Type of Review: Revision of a currently approved collection.

Title: Weekly Consolidated Foreign Currency Report of Major Market Participants.

Form: FC-1.

Description: Collection of information on Form FC-1 is required by law. Form FC-1 is designed to collect timely information on foreign exchange spot, forward and futures purchased and sold; net options position, delta equivalent value long or short; net reported dealing position long or short.

Respondents: Businesses or other for-profits.

Estimated Total Reporting Burden: 915 hours.

OMB Number: 1505-0014.

Type of Review: Revision of a currently approved collection.

Title: Quarterly Consolidated Foreign Currency Report.

Form: FC-3.

Description: Collection of information on Form FC-3 is required by law. Form FC-3 is designed to collect timely information on foreign exchange contracts purchased and sold; foreign exchange futures purchased and sold; foreign currency denominated assets and liabilities; foreign currency options and net delta equivalent value.

Respondents: Businesses or other for-profits.

Estimated Total Reporting Burden: 1,216 hours.

Domestic Finance International Portfolio Investment Data System

Clearance Officer: Dwight Wolkow, 1500 Pennsylvania Ave, NW., Washington, DC 20220; (202) 622-1276.

OMB Reviewer: Shagufta Ahmed, Office of Management and Budget, New Executive Office Building, Room 10235, Washington, DC 20503; (202) 395-7873.

Celina Elphage,
Treasury PRA Clearance Officer.

[FR Doc. 2010-3432 Filed 2-22-10; 8:45 am]

BILLING CODE 4810-25-P